DEPARTMENT OF TRANSPORTATION

Federal Aviation Administration

14 CFR Part 39

[Docket No. FAA-2021-0254; Project Identifier MCAI-2020-00481-R; Amendment 39-21595; AD 2021-12-08]

RIN 2120-AA64

Airworthiness Directives; Airbus Helicopters Deutschland GmbH (AHD) Helicopters

AGENCY: Federal Aviation Administration (FAA), DOT.

ACTION: Final rule.

SUMMARY: The FAA is adopting a new airworthiness directive (AD) for all Airbus Helicopters Deutschland GmbH (AHD) Model MBB-BK 117 D-2 helicopters. This AD was prompted by reports of chafing marks on the wiring harness behind the middle side panels in the area of the front passenger (PAX) panels. This AD requires inspecting, modifying, and rerouting the wiring harness, as specified in a European Union Aviation Safety Agency (EASA) AD, which is incorporated by reference. The FAA is issuing this AD to address the unsafe condition on these products.

DATES: This AD is effective July 29, 2021.

The Director of the Federal Register approved the incorporation by reference of certain publications listed in this AD as of July 29, 2021.

ADDRESSES: For material incorporated by reference (IBR) in this AD, contact the EASA, Konrad-Adenauer-Ufer 3, 50668 Cologne, Germany; telephone +49 221 8999 000; email ADs@easa.europa.eu; internet www.easa.europa.eu. You may find this IBR information on the EASA website at https://ad.easa.europa.eu. For service information identified in this final rule, contact Airbus Helicopters, 2701 N Forum Drive, Grand Prairie, TX 75052; telephone (972) 641-0000 or (800) 232-0323; fax (972) 641-3775; or at http://www.airbushelicopters.com/techpub. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2021-0254.

Examining the AD Docket

You may examine the AD docket on the internet at https://www.regulations.gov by searching for and locating Docket No. FAA-2021-0254; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Blaine Williams, Aerospace Engineer, Los Angeles ACO Branch, Compliance & Airworthiness Division, 3960 Paramount Blvd., Lakewood, CA 90712; telephone 562-627-5371; email blaine.williams@faa.gov.

SUPPLEMENTARY INFORMATION:

Background

The EASA, which is the Technical Agent for the Member States of the European Union, has issued EASA AD 2019-0305, dated December 17, 2019 (EASA AD 2019-0305), to correct an unsafe condition for all Airbus Helicopters Deutschland GmbH Model MBB-BK117 D-2 helicopters.

The FAA issued a notice of proposed rulemaking (NPRM) to amend 14 CFR part 39 by adding an AD that would apply to all Airbus Helicopters Deutschland GmbH Model MBB-BK117 D-2 helicopters. The NPRM published in the Federal Register on April 2, 2021 (86 FR 17330). The NPRM was prompted by reports of chafing marks on the wiring harness behind the middle side panels in the area of the front PAX panels. The NPRM proposed to require inspecting, modifying, and rerouting the wiring harness, as specified in the EASA AD.

The FAA is issuing this AD to prevent electrical failure of the helicopter wiring harness. See the EASA AD for additional background information.

Discussion of Final Airworthiness Directive

Comments

The FAA gave the public the opportunity to participate in developing this final rule. The FAA received no comments on the NPRM or on the determination of the cost to the public.

Conclusion

The FAA reviewed the relevant data and determined that air safety and the public interest require adopting this final rule as proposed.

Related Service Information Under 1 CFR Part 51

EASA AD 2019-0305 specifies inspecting the wiring harness installed behind the front PAX panel of the left and right hand middle side panels and depending on the results, repairing or modifying the wiring harness. For a modified wiring harness, EASA AD 2019-0305 specifies repetitively inspecting for damage.

The FAA also reviewed Airbus Helicopters Alert Service Bulletin (ASB) MBB-BK117 D-2-88A-003, Revision 1 and dated December 9, 2019 (ASB MBB-BK117 D-2-88A-003). ASB MBB-BK117 D-2-88A-003 applies to Model MBB-BK-117 D-2 and D-2m helicopters. This service information specifies inspecting, repairing, and modifying the wiring harness installed behind the front PAX panel of the left and right hand middle side panels. This material is reasonably available because the interested parties have access to it through their normal course of business or by the means identified in the ADDRESSES section.

Differences Between This AD and the EASA AD

Where the EASA AD refers to flight hours, this AD uses hours time-in-service (TIS) instead. Where the EASA AD allows a tolerance to the compliance time of certain initial and repetitive inspections, this AD requires a compliance time of within 440 hours TIS after modification of an affected part for a certain initial inspection and thereafter at intervals within 440 hours TIS for certain repetitive inspections instead. Where the EASA AD requires repetitive inspections in accordance with paragraph 3.B.8. of ASB MBB-BK117 D-2-88A-003, this AD requires repetitive inspections in accordance with paragraph 3.B.9. of ASB MBB-BK117 D-2-88A-003.

Costs of Compliance

The FAA estimates that this AD affects 60 helicopters of U.S. Registry. Labor rates are estimated at $85 per work-hour. Based on these numbers, the FAA estimates that operators may incur the following costs in order to comply with this AD. Inspecting the wiring harness takes about 6 work-hours for an estimated cost of $510 per helicopter and $30,600 for the U.S. fleet, per inspection cycle. Modification during the inspection of the wiring harness takes about 6 work-hours for an estimated cost of $510 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-12-08 Airbus Helicopters Deutschland GmbH (AHD): Amendment 39-21595; Docket No. FAA-2021-0254; Project Identifier MCAI-2020-00481-R.

(a) Effective Date

This airworthiness directive (AD) is effective July 29, 2021.

((b) Affected Airworthiness Directives

None.

(c) Applicability

This AD applies to all Airbus Helicopters Deutschland GmbH (AHD) Model MBB-BK 117 D-2 helicopters, certificated in any category.

(d) Subject

Joint Aircraft System Component (JASC) Code: 1497, Miscellaneous Wiring.

(e) Reason

This AD was prompted by reports of chafing marks found on the wiring harness behind the middle side panels, in the area of the front passenger panels. Further investigations identified low clearance between the harness and the surrounding structure. Airbus Helicopters identified the cause of the chafing marks as contact of the harness with the front passenger panel screws. The FAA is issuing this AD to prevent electrical failure of the helicopter wiring harness.

(f) Compliance

Comply with this AD within the compliance times specified, unless already done.

((g) Requirements

Except as specified in paragraph (h) of this AD: Comply with all required actions and compliance times specified in, and in accordance with, European Union Aviation Safety Agency (EASA) AD 2019-0305, dated December 17, 2019 (EASA AD 2019-0305).

(h) Exceptions to EASA AD 2019-0305

(1) Where EASA AD 2019-0305 refers to its effective date, this AD requires using the effective date of this AD.

(2) Where EASA AD 2019-0305 refers to flight hours (FH), this AD requires using hours time-in-service (TIS).

(3) Where paragraph (6) of EASA AD 2019-0305 specifies a compliance time for the initial inspection of within 400 flight hours after the modification of an affected part and thereafter at intervals not exceeding 400 flight hours, plus a non-cumulative tolerance of 40 flight hours, this AD requires a compliance time of within 440 hours TIS after the modification of an affected part for the initial inspection and thereafter at intervals not exceeding 440 hours TIS.

(4) Where paragraph (6) of EASA AD specifies repetitive inspections in accordance with paragraph 3.B.8. of the referenced Alert Service Bulletin (ASB), this AD requires repetitive inspections in accordance with paragraph 3.B.9. of ASB MBB-BK117 D-2-88A-003, Revision 1 and dated December 9, 2019.

(5) Where the service information referenced in EASA AD 2019-0305 specifies to use tooling, equivalent tooling may be used.

(6) The “Remarks” section of EASA AD 2019-0305 does not apply to this AD.

(i) Special Flight Permit

Special flight permits, as described in 14 CFR 21.197 and 21.199, are not allowed.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Blaine Williams, Aerospace Engineer, Los Angeles ACO Branch, Compliance & Airworthiness Division, 3960 Paramount Blvd., Lakewood, CA 90712; telephone 562-627-5371; email blaine.williams@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0305, dated December 17, 2019.

(ii) Airbus Helicopters Alert Service Bulletin ASB MBB-BK117 D-2-88A-003, Revision 1, dated December 9, 2019.

(3) For EASA AD 2019-0305, contact the EASA, Konrad-Adenauer-Ufer 3, 50668 Cologne, Germany; telephone +49 221 8999 000; email ADs@easa.europa.eu; internet www.easa.europa.eu. You may find this EASA AD on the EASA website at https://ad.easa.europa.eu.

(4) For Airbus Helicopters Alert Service Bulletin ASB MBB-BK117 D-2-88A-003, Revision 1, contact Airbus Helicopters, 2701 North Forum Drive, Grand Prairie, TX 75052; telephone (972) 641-0000 or (800) 232-0323; fax (972) 641-3775; or at https://www.airbus.com/helicopters/services/technical-support.html.

(5) You may view this service information at the FAA, Office of the Regional Counsel, Southwest Region, 10101 Hillwood Pkwy., Room 6N-321, Fort Worth, TX 76177. For information on the availability of this material at the FAA, call (817)222-5110. This material may be found in the AD docket on the internet at https://www.regulations.gov by searching for and locating Docket No. FAA-2021-0254.

(6) You may view this material that is incorporated by reference at the National Archives and Records Administration (NARA). For information on the availability of this material at NARA, email fedreg.legal@nara.gov, or go to https://www.archives.gov/federal-register/cfr/ibr-locations.html.

Issued on May 28, 2021.
Lance T. Gant,
Director, Compliance & Airworthiness Division, Aircraft Certification Service.

[FR Doc. 2021-13128 Filed 6-23-21; 8:45 am]

BILLING CODE 4910-13-P